DEPARTMENT OF THE INTERIOR

National Park Service

National Register of Historic Places; Notification of Pending Nominations

Nominations for the following properties being considered for listing in the National Register were received by the National Park Service before January 8, 2000. Pursuant to section 60.13 of 36 CFR part 60 written comments concerning the significance of these properties under the National Register criteria for evaluation may be forwarded to the National Register, National Park Service, 1849 C St. NW, NC400, Washington, DC 20240. Written comments should be submitted by February 3, 2000.

Beth Boland,
Acting Keeper of the National Register.

Arkansas

Pope County

Fair View School (Public Schools in the Ozarks MPS), 2367 Mill Creek Rd., Russellville, 00000030

California

Humboldt County

Prairie Creek Fish Hatchery, Milepost 124.83 on US 101, N of Orick, Orick, 00000034

Riverside County

Lake Norconian Club, Jct. of Fifth and Western Ave.,

Norco, 00000033

Idaho

Twin Falls County

Twin Falls Downtown Historic District, Roughly bounded by 2 Ave. N, 2 St. E, 2 St. W, 2 St. S, 3 Ave. S, 3 St. W., Twin Falls, 00000035

Kansas

Douglas County

Vinland Grange Hall, Jct. of Oak and Main Sts., Vinland, 00000037

Jewell County

Francis, O.W., House, Rte. 1, Burr Oak, 00000036

Louisiana

West Feliciana Parish

Star Hill Post Office and Store, 4630 US 61, St. Francisville, 00000038

Maryland

Baltimore Independent city

Market Center, 24 blks surrounding the jct. of Howard and Lexington Sts., Baltimore, 00000040

Massachusetts

Worcester County

Corcoran School, 40 Walnut St., Clinton, 00000039

Michigan

St. Clair County

Seventh Street—Black River Bridge (Highway Bridges of Michigan MPS), Seventh St. over Black R., Port Huron, 00000045

St. Joseph County

M-86—Prairie River Bridge (Highway Bridges of Michigan MPS),

M-86 over Prairie R., Nottawa, 00000044

Wayne County

East River Road—North Hickory Canal Bridge (Highway Bridges of Michigan MPS), E. River Rd. over N. Hickory Canal, Grosse Ile, 00000042

Parke Lane Road—Thorofare Canal Bridge (Highway Bridges of Michigan MPS), Parke Lane Rd. over Thorofare Ch., Grosse Ile, 00000043

US 12 Bridges (Highway Bridges of Michigan MPS), US 12 over I-94 and westbound I-94 ramp, Dearborn, 00000041

Montana

Gallatin County

Bartlett, Jack, House, 8 W. Harrison, Bozeman, 00000046

Missoula County

Simons Block (Missoula MPS), 314 N. Higgins Ave., Missoula, 00000047

New York

Cayuga County

Centreport Aqueduct 2462 NY 31, Weedsport, 00000051

Delaware County

Lordville Presbyterian Church (Upper Delaware Valley, New York and Pennsylvania, MPS), Lordville Rd., Lordville, 00000052

Ravina (Upper Delaware Valley, New York and Pennsylvania, MPS), Bouchouxville, Lordville, 00000048 Oswego County

Chancellor (tugboat), Oswego R., Fulton, 00000050

Northrup—Gilbert House, 25 Church St., Phoenix, 00000049

Sullivan County

Hankins District No. One Schoolhouse (Upper Delaware Valley, New York and Pennsylvania, MPS), Sullivan Cty Rd. 132, Hankins, 00000054

Narrowsburg Methodist Church (Upper Delaware Valley, New York and Pennsylvania, MPS), Lake St., Narrowsburg, 00000053

Oregon

Multnomah County

Bishopcroft of the Episcopal Diocese of Oregon, 1832 SW Elm St., Portland, 00000061

Pennsylvania

Bradford County

Spalding Memorial Library—Tioga Point Museum, 724 S. Main St., Athens, 00000059

Delaware County

Morton, Morton, House, Jct. of Muckinipates and Darby Creeks, Norwood, 00000055

Lancaster County

Manheim Borough Historic District, Roughly bounded by Colebrook, Laurel, Fuller Dr., And Fulton Sts., Manheim Borough, 00000058

Lawrence County

North Hill Historic District, Roughly Delaware, Neshannock, Hill Crest and Fairmont Aves., and Crescent, Falls, Beaver, Jefferson and Mercer Sts., New Castle, 00000056

Montgomery County

Muhlenberg, Henry Melchoir, House, 201 W. Main St., Trappe, 00000060

York County

Pleasureville Historic District, Roughly along N. Sherman St. bet. Cherry Ln. and Park View Rd., Springettsbury, 00000057

Vermont

Franklin County

District No. 2 School (Educational Resources of Vermont MPS), 2442 Polly Hubbard Rd., Georgia, 00000063

Orleans County

Lakeview Inn, 295 Breezy Ave., Greensboro, 00000062

Virginia

Charlotte County

Westview, 1672 Terrell Rd., Brocknel, 00000067

Chesapeake Independent city

Old Portlock School #5, 3815 Bainbridge Blvd., Chesapeake, 00000066

Henrico County

Reynolds Metals Company International Headquarters, 6601 W. Broad St., Richmond, 00000064

Norfolk Independent city

James Blair Junior High School, 730 Spotswood Ave., Norfolk, 00000068

Smyth County

Downtown Chilhowie Historic District, Main St. S. Whitetop Rd. and Lee Hwy., Chilhowie, 00000065

A Request of Removal has been made for the following resources:

Pennsylvania

Allegheny County

Linden Grove, Grove Rd. at Library Rd. and Willow Ave. Castle Shannon, 87001970

Cumberland County

Sterrett-Hassinger House, Three Squares Hollow Rd., Newville, 83002234

[FR Doc. 00-1244 Filed 1-18-00; 8:45 am]

BILLING CODE 4310-70-P